DEPARTMENT OF HEALTH AND HUMAN SERVICES

National Institutes of Health

Statement of Organization, Functions, and Delegations of Authority

Part N, National Institutes of Health, of the Statement of Organization, Functions, and Delegations of Authority for the Department of Health and Human Services (40 FR 22859, May 27, 1975, as amended most recently at 66 FR 21406, April 30, 2001, and redesignated from Part HN as Part N at 60 FR 56606, November 9, 1995) is amended as set forth below to reflect the transfer of the bacterial toxins and therapeutics research function from the National Institute of Dental and Craniofacial Research to the National Institute of Allergy and Infectious Diseases, National Institutes of Health.

Section N-B, Organization and Functions, under the heading National Institute of Allergy and Infectious Diseases (NM, formerly HNM), Division of Intramural Research (NM2, formerly HNM2), insert the following:

Bacterial Toxins and Therapeutics Section (NM-8, formerly HNM2-8). (1) Studies the actions of bacterial protein toxins on animal cells, using methods of biochemistry, microbiology, genetics, and cell biology; and (2) focuses on pathogenic bacteria, especially Bacillus antracis, to include (a) identification and analysis of bacterial virulence factors and their genetic regulation, (b) structure-function analysis of bacterial toxin proteins and other virulence factors, and (c) development of improved vaccines and therapeutics.

Delegations of Authority Statement: All delegations and redelegations of authority to officers and employees of NIH that were in effect immediately prior to the effective date of this establishment and are consistent with this establishment shall continue in effect, pending further redelegation.

Dated: August 11, 2002.
Elias A. Zerhouni,
Director, National Institutes of Health.

[FR Doc. 02-21347 Filed 8-21-02; 8:45 am]

BILLING CODE 4140-01-M